DEPARTMENT OF TRANSPORTATION

Office of the Secretary

Aviation Proceedings, Agreements Filed the Week Ending April 21, 2012

The following Agreements were filed with the Department of Transportation under the Sections 412 and 414 of the Federal Aviation Act, as amended (49 U.S.C. 1382 and 1384) and procedures governing proceedings to enforce these provisions. Answers may be filed within 21 days after the filing of the application.

Docket Number: DOT-OST-2012-0059.

Date Filed: April 16, 2012.

Parties: Members of the International Air Transport Association.

Subject: PTC COMP Mail Vote 705, Resolution 024d, Currency Names, Codes, Rounding Units and Acceptability of Currencies, Azerbaijan, (Memo 1671).

Intended Effective Date: 1 May 2012.

Renee V. Wright,
Program Manager, Docket Operations, Federal Register Liaison.

[FR Doc. 2012-11285 Filed 5-10-12; 8:45 am]

BILLING CODE 4910-9X-P